NATIONAL SCIENCE FOUNDATION

National Science Board

Sunshine Act Meetings Notice

The National Science Board, pursuant to NSF regulations (45 CFR Part 614), the National Science Foundation Act, as amended (42 U.S.C. 1862n-5), and the Government in the Sunshine Act (5 U.S.C. 552b), hereby gives notice of the scheduling of meetings for the transaction of National Science Board business and other matters specified, as follows:

AGENCY HOLDING MEETING: National Science Board, National Science Foundation

DATE AND TIME: August 15, 2013 from 8:00 a.m. to 5:45 p.m., and August 16 from 8:00 a.m. to 3:00 p.m.

PLACE: These meetings will be held at the National Science Foundation, 4201 Wilson Blvd., Rooms 1235, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

WEBCAST INFORMATION: Public meetings and public portions of meetings will be webcast. To view the meetings, go to http://www.tvworldwide.com/events/nsf/130815/http://www.tvworldwide.com/events/nsf/130509/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

Open Sessions

August 15, 2013

8:00-8:05 a.m. (Chairman's introduction)

8:05-9:30 a.m. (CPP)

12:45-1:30 p.m. (CSB)

1:30-2:30 p.m. (SCF)

2:30-3:15 p.m. (A&O)

3:30-5:00 p.m. (CEH)

5:00-5:45 p.m. (SEI)

August 16, 2013

11:00 a.m.-12:30 p.m. (AB)

1:15-3:00 p.m. (Plenary)

Closed Sessions

August 15, 2013

9:45 a.m.-12:00 Noon (CPP)

August 16, 2013

8:00-8:30 a.m. (A&O)

8:30-9:00 a.m. (CSB)

9:00-9:15 a.m. (Plenary executive closed)

9:15-10:45 a.m. (Plenary closed)

MATTERS TO BE DISCUSSED:

Thursday, August 15, 2013

Committee on Programs and Plans (CPP)

Open Session: 8:05-9:30 a.m.

• Approval of open CPP minutes for May 2013

• Committee Chairman's remarks—including update on schedule of action and information items for NSB review

• CPP Program Portfolio Discussion: Science portfolio and prospects

• NSB Information Item: Status of ocean drilling

• NSB Information Item: Update on the process for assessing the balance of the Division of Materials Research (DMR) facilities and instrumentation portfolio, and update on the review of the renewal proposal for Cornell High Energy Synchrotron Sources (CHESS)

Committee on Programs and Plans (CPP)

Closed Session: 9:45 a.m.-12:00 Noon

• Committee Chairman's remarks

• Approval of closed CPP minutes for May 2013

• NSB Information Item: Planning and prioritizing infrastructure investments in the Directorate for Mathematical and Physical Sciences

• NSB Information Item: MPS/AST portfolio review update

• NSB Action Item: Support for the Renewal of Funding for Operations and Maintenance of the Laser Interferometer Gravitational Wave Observatory (LIGO) for FY 2014-2018

• NSB Action Item: Approval of the Revised Baseline for the Construction of the Advanced Technology Solar Telescope (ATST) for FY 2010-2019

• NSB Action Item: Increase in Pass-Through Authority for Construction of the Atacama Large Millimeter/submillimeter Array (ALMA)

Committee on Strategy and Budget (CSB)

Open Session: 12:45-1:30 p.m.

• Committee Chairman's remarks

• Approval of CSB open minutes for May 2013 meeting

• NSF FY 2014 budget update

• Study on Trends in Science Budgets

CSB Subcommittee on Facilities (SCF)

Open Session: 1:30-2:30 p.m.

• Approval of the May 15, 2013 minutes

• Committee Chair remarks

• Discussion Item: Annual Portfolio Review of Facilities (APR)

o Subcommittee history and purpose

o Roles of the Annual Facility Plan and APR

o 2013 APR

• General Discussion: Next steps

o 2014 focus topic

o September retreat

Audit and Oversight Committee (A&O)

Open Session: 2:30-3:15 p.m.

• Approval of minutes of the May 9, 2013 meeting

• Committee Chairman's opening remarks

• Inspector General's update

• Chief Financial Officer's update

• Periodic review of A&O committee charge

• Committee Chairman's closing remarks

Committee on Education and Human Resources (CEH)

Open Session: 3:30-5:00 p.m.

• Approval of open minutes for February 20, 2013; open teleconference minutes for April 16, 2013 and open teleconference minutes for July 17, 2013

• Committee Chairman's remarks

• Panel discussion on institutional efforts to improve undergraduate STEM Education

Committee on Science & Engineering Indicators (SEI)

Open Session: 5:00-5:45 p.m.

• Approval of May minutes

• Committee Chairman's remarks: update on Indicators 2012 mobile app; update on the revised “STEM Education Data and Trends” online tool

• Discussion of the Science and Engineering Indicators 2014 “Orange Book”

• Update on the “Digital Indicators” project

• Update on the companion report to Science and Engineering Indicators 2014

Friday, August 16, 2013

Audit and Oversight Committee (A&O)

Closed Session: 8:00-8:30 a.m.

• Committee Chairman's opening remarks

• Office of the Inspector General FY 15 budget

• Committee Chairman's closing remarks

Committee on Strategy and Budget (CSB)

Closed Session: 8:30-9:00 a.m.

• Committee Chairman's remarks

• Approval of CSB closed minutes for May 2013 meeting and closed minutes for July 29 teleconference

• FY 2015 budget approval

Plenary Board Meeting

Executive Closed Session: 9:00-9:15 a.m.

• Approval of Executive closed session minutes, May 2013 meeting

• Board member proposals

• Board member nominations

• Chairman's remarks

Plenary Board Meeting

Closed Session: 9:15-10:45 a.m.

• Approval of closed session minutes, May 2013

• Discussion on risks to NSF

• Awards and Agreements/Resolutions from CPP

○ Directorate for Mathematical and Physical Sciences (MPS), Division of Physics (PHY): Renewal of Funding for Operations and Maintenance of the Laser Interferometer Gravitational-wave Observatory (LIGO) for FY 2014-2018

○ Directorate for Mathematical and Physical Sciences (MPS), Division of Astronomical Sciences (AST): Revised Baseline for the Construction of the Advanced Technology Solar Telescope (ATST) for FY 2010-2019

○ Directorate for Mathematical and Physical Sciences (MPS), Division of Astronomical Sciences (AST): Increase in Pass-through Authority for Construction of the Atacama Large Millimeter/submillimeter Array (ALMA)

• Closed committee reports

• Chairman's report

Task Force on Administrative Burdens (AB)

Open Session: 11:00 a.m.-12:30 p.m.

• Approval of the July 8, 2013 teleconference minutes

• Task Force Chairman's remarks

• Discussion Item: Results of the request for information

• Discussion Item: Piloted use of required preliminary proposals for a single, annual competition

• General Discussion: Continued discussion on both topics and next steps

Plenary Board Meeting

Open Session: 1:15-3:00 p.m.

• Approval of open session minutes, May 2013

• Chairman's report

• Director's report

• NSF plan on open access

• Open committee reports

• Chairman's remarks

MEETING ADJOURNS: 3:00 p.m.

Ann Bushmiller,
Senior Counsel to the National Science Board.

[FR Doc. 2013-19565 Filed 8-8-13; 4:15 pm]

BILLING CODE 7555-01-P